DEPARTMENT OF HEALTH AND HUMAN SERVICES

Substance Abuse and Mental Health Services Administration

Fiscal Year 2003 Funding Opportunities

AGENCY: Substance Abuse and Mental Health Services Administration, HHS.

ACTION: Notice of funding availability for grants to expand substance abuse treatment capacity in targeted areas of need (Short Title: Targeted Capacity Expansion—PA 03-001)

SUMMARY: The Substance Abuse and Mental Health Services Administration (SAMHSA) Center for Substance Abuse Treatment (CSAT) announces the availability of Fiscal Year (FY) 2003 funds for grants for the following activity. This notice is not a complete description of the activity; potential applicants must obtain a copy of the Program Announcement (PA), including Part I, Grants to Expand Substance Abuse Treatment Capacity in Targeted Areas of Need (Short Title: Targeted Capacity Expansion—PA 03-001), and Part II, General Policies and Procedures Applicable to all SAMHSA Applications for Discretionary Grants and Cooperative Agreements, before preparing and submitting an application.

Activity | Application deadline | Est. funds FY 2003 | Est. number of awards | Project period
Grants to Expand Substance Abuse Treatment Capacity in Targeted Areas of Need | Sept. 10, 2002 and Jan. 10 and Sept. 10 thereafter | $28 million | 56 | 3 years.

The actual amount available for the award may vary, depending on unanticipated program requirements and the number and quality of applications received. This program is being announced prior to the annual appropriation for FY 2003 for SAMHSA's programs. Applications are invited based on the assumption that sufficient funds will be appropriated for FY 2003 to permit funding of a reasonable number of applications being hereby solicited. This program is being announced in order to allow applicants sufficient time to plan and prepare applications. Solicitation of applications in advance of a final appropriation will also enable the award of appropriated grant funds in an expeditious manner and thus allow prompt implementation and evaluation of promising practices. All applicants are reminded, however, that we cannot guarantee sufficient funds will be appropriated to permit SAMHSA to fund any applications. This program is authorized under Section 509 of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686. The PHS 5161-1 application form and the full text of the activity are also available electronically via SAMHSA's World Wide Web Home Page: http://www.samhsa.gov

When requesting an application kit, the applicant must specify the particular activity for which detailed information is desired. All information necessary to apply, including where to submit applications and application deadline instructions, are included in the application kit.

Purpose: The Substance Abuse and Mental Health Services Administration (SAMHSA), Center for Substance Abuse Treatment (CSAT) announces the availability of funds for grants to expand or enhance substance abuse treatment capacity in local communities. The Targeted Capacity Expansion (TCE) program is designed to address gaps in treatment capacity by supporting rapid and strategic responses to demands for alcohol and drug treatment services and/or innovative solutions to unmet needs in communities with serious, emerging substance abuse problems.

This Program Announcement (PA) is a re-issuance (with revisions) and replaces a prior PA by the same title, “Targeted Capacity Expansion,” No. PA 00-001.

Eligibility: Only the following are eligible to apply:

• Local governments (cities, towns, counties, and their respective departments and political subdivisions, such as a Department of Health and Human Services); and

• Tribes, Tribal governments, or other federally recognized Tribal authorities and organizations.

Because States receive substantial funding for substance abuse treatment services via the Substance Abuse Prevention and Treatment (SAPT) Block Grant, SAMHSA/CSAT uses TCE to target specific local needs that address national treatment priorities. Eligibility is restricted to local governmental entities in recognition of the local governments' responsibility for and interest in providing for the needs of their citizens, and because the success of the program will depend upon their authority and ability to broadly coordinate a variety of resources.

Grants will be awarded only to local and tribal governments and their major organizational units with broad planning, policy, and service coordination responsibilities. Hospitals, community health centers, school systems, or court systems are not eligible for TCE grants.

Community-based organizations (CBOs), including not-for-profit and faith based organizations, are not eligible to apply directly for these grants, even if providing services under contract to a unit of government. However, CSAT encourages local government applicants to develop partnerships with these organizations for the provision of treatment services as part of their proposed TCE projects.

Potential applicants who are unsure of eligibility should contact the person responsible for program issues listed below.

Availability of Funds: CSAT anticipates that approximately $28 million will be available for approximately 56 awards in FY 2003. The total funds available and the actual funding levels will depend on the receipt of an appropriation. Additional funding for new grants may be available in future fiscal years. Applicants may request up to but not more than $500,000 in total costs (direct and indirect) per year. Because TCE is intended to be a national program benefitting the maximum possible number of communities, CSAT will reserve up to one third of TCE funds for applicants within States and communities that have no active TCE grants at the time awards are made.

Period of Support: Awards may be requested for up to 3 years.

Criteria for Review and Funding: General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.243.

Program Contact: For questions concerning program issues, contact: James M. Herrell, Ph.D., Division of Practice and Systems Development, CSAT/SAMHSA, Rockwall II, Suite 740, 5600 Fishers Lane, Rockville, MD 20857, (301) 443-2376, E-Mail: jherrell@samhsa.gov

For questions regarding grants management issues, contact: Steve Hudak, Division of Grants Management, OPS/SAMHSA, Rockwall II, 6th floor, 5600 Fishers Lane, Rockville, MD 20857, (301) 443-9666, E-Mail: shudak@samhsa.gov

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2003 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: June 18, 2002.
Richard Kopanda,
Executive Officer, SAMHSA.

[FR Doc. 02-15781 Filed 6-21-02; 8:45 am]

BILLING CODE 4162-20-P